DEPARTMENT OF AGRICULTURE

Submission for OMB Review; Comment Request

July 19, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, D.C. 20503 and to Departmental Clearance Office, USDA, OCIO, Mail Stop 7602, Washington, D.C. 20250-7602.

Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Agricultural Marketing Service

Title: 7 CFR Part 54-Meats, Prepared Meats, and Meat Products (Grading, Certification, and Standards).

OMB Control Number: 0581-0124.

Summary of Collection: The Agricultural Marketing Act of 1946, as amended, authorizes the Secretary of Agriculture to provide consumers with voluntary Federal meat grading and certification services that facilitate the marketing of meat and meat products. This is accomplished by providing meat and meat products that are uniform in quality. The Meat Grading and Certification (MGC) Branch provides these services under the authority of 7 CFR Part 54—Meats, Prepared Meats, and Meat Products (Grading, Certification, and Standards). The Agricultural Marketing Service (AMS) will collect information using forms LS-313, “Application for Service,” and LS-315, “Application for Commitment Grading or Certification Service.”

Need and Use of the Information: AMS will collect information to identify the responsible authorities in establishments requesting services and to initiate billing and collection accounts. A signed and approved application (Form LS-313 or LS-315) constitutes authorization for any employee of AMS to enter the establishment for the purpose of performing official functions under the regulations. Without a properly signed and approved Form LS-313 or LS-315, AMS officials would not have the authority to enter the premises to provide grading and/or certification services nor would users of the services be legally obligated to abide by the regulations or to remit payment for services rendered.

Description of Respondents: Business or other for-profit.

Number of Respondents: 888.

Frequency of Responses: Reporting: On occasion.

Total Burden Hours: 406.

Agricultural Marketing Service

Title: Olives Grown in California.

OMB Control Number: 0581-0142.

Summary of Collection: Marketing Order 932 (7 CFR Part 932), covering the handling of olives grown in California, emanates from enabling legislation (The Agricultural Marketing Agreement Act of 1937, Sections 1-19, 48 Stats. 31, as amended; 7 USC 601-674). The order authorizes the issuance of grade and size standards, and incoming and outgoing inspection requirements. The order also has authority for research and development projects, including paid advertising. The Agricultural Marketing Service (AMS) will collect information using several forms.

Need and Use of the Information: AMS will collect information to determine olive inventories, acquisition of olives, shipments, and disposition. Only authorized representatives of the USDA, including AMS, Fruit and Vegetable Programs' regional and headquarters' staff, and authorized employees of the committee would use the information collected.

Description of Respondents: Business or other for-profit; Farms.

Number of Respondents: 691.

Frequency of Responses: Recordkeeping; reporting: On occasion; Other (2-6 years)

Total Burden Hours: 2,947.

Food and Nutrition Service

Title: Interoperability Funding Agreement.

OMB Control Number: 0584-NEW.

Summary of Collection: Under Section 7(k) of Pub. L. 106-71, the Electronic Benefit Transfer (EBT) Interoperability and Portability Act of 2000, the Secretary is required to ensure that electronic benefit transfer (EBT) systems used for the issuance and redemption of food stamp program (FSP) benefits are interoperable and that food stamp benefits are portable among all States by October 1, 2002, except where exemptions apply or a temporary waiver is granted.

Need and Use of the Information: The Interoperability Funding Agreement will inform State agencies of the administrative procedures for requesting enhanced funding for interoperability costs, including prescribed formats for submitting requests for payment and submission deadlines. State agencies that request funding will be required to submit the signed agreement concurrent with the State agency's first request for payment for each fiscal year, indicating that it agrees to comply with the procedures established by the Department. If the agreement is not submitted it would prevent the Food and Nutrition Service from obligating enhanced funding each fiscal year for interoperability costs incurred by State agencies.

Description of Respondents: State, Local, or Tribal Government.

Number of Respondents: 51.

Frequency of Responses: Recordkeeping; reporting: Annually.

Total Burden Hours: 38.

Agency is requesting an emergency approval by 7/31/00.

Nancy B. Sternberg,
Departmental Clearance Officer.

[FR Doc. 00-18695 Filed 7-24-00; 8:45 am]

BILLING CODE 3410-01-M